DEPARTMENT OF LABOR

Employment and Training Administration

Proposed Collection; Comment Request—Workforce Investment Act (WIA) of 1998: OMB Approval for Five-Year State Plan Modifications Submitted Under the Planning Guidance and Instructions for Title I and the Wagner-Peyser Act

February 25, 1999.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (P.A.-95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the “Planning Guidance and Instructions for Submission of the Strategic Five-Year State Plan and Plan Modifications for Title I of the Workforce Investment Act of 1998 (Workforce Investment Act) and the Wagner-Peyser Act.” A copy of the proposed information collection request (ICR) can be obtained by contacting the office listed below in the addressee section of this notice.

DATES: Submit comments below on or before July 6, 2004.

ADDRESSES: Send comments to Christine Kulick, Acting Division Chief, Office of One-Stop Operations, U.S. Department of Labor, 200 Constitution Avenue, NW., Room S-4231, Washington, DC 20210. Telephone: (202) 693-3045 (this is not a toll-free number); fax: (202) 693-3015; or via e-mail: Kulick.christine@dol.gov.

FOR FURTHER INFORMATION CONTACT: Christine Kulick, Acting Division Chief, Office of One-Stop Operations, U.S. Department of Labor, 200 Constitution Avenue, NW., Room S-4231, Washington, DC 20210. Telephone: (202) 693-3045 (this is not a toll-free number); fax: (202) 693-3015; e-mail: Kulick.christine@dol.gov.

SUPPLEMENTARY INFORMATION:

I. Background

Section 112(a) of the Workforce Investment Act (Pub. L. 105-220, August 7, 1998) requires the Governor of the state to submit a Strategic Five-Year State Plan to the Secretary of Labor in order to be eligible to receive an allocation under Sections 127 or 132 or to receive financial assistance under the Wagner-Peyser Act. Situations in which a new Five-Year Plan or Plan modification may be required by the Governor include when: (1) The approved Five-year Plan is expiring; (2) changes in Federal or state law or policy substantially change the assumptions upon which the plan is based; (3) there are changes in the statewide vision, strategies, policies, performance indicators, the methodology used to determine local allocation of funds, reorganizations which change the working relationship with system employees, changes in organizational responsibilities, changes to the membership structure of the State Board or alternative entity, and similar substantial changes to the states' workforce investment system; and (4) the state has failed to meet performances goals and must adjust service strategies.

II. Desired Focus of Comments

Currently, the Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed ICR can be obtained by contacting the office listed above in the addressee section of this notice.

III. Current Actions

The Workforce Investment Act of 1998 (Pub. L. 105-220, August 7, 1998), Section 112(a), requires the Governor of the state to submit a State Plan to the Secretary of Labor to be eligible to receive an allocation under Sections 127 or 132 or to receive financial assistance under the Wagner-Peyser Act. The Plan outlines a five-year strategy for the statewide workforce investment system of the state that meets the requirements of Sections 111 and 112 of the Act. This extension is needed in order for state governments to submit new Five-Year State Plans or modifications to existing Five-Year Plans as needed.

Type of Review: Extension.

Agency: Employment and Training Administration.

Title: Planning Guidance and Instructions for Submission of the Strategic Five-Year State Plan and Plan modifications for Title I of the Workforce Investment Act of 1998 and the Wagner-Peyser Act.

OMB Number: 1205-0398.

Total Respondents: 59.

Frequency: As needed.

Total Responses: one.

Average Time Per Response: 25 hours.

Estimated Total Burden Hours: 1,475.

Total Burden Cost (capital/startup): $0.

Total Burden Cost (operating/maintaining): $0.

Comments submitted in response to this comment request will be summarized and/or included in the request for the Office of Management and Budget approval of the information collection request; they will also become a matter of public record.

Dated: This 30th Day of April 2004.
Emily Stover DeRocco,
Assistant Secretary for Employment and Training.

[FR Doc. 04-10196 Filed 5-4-04; 8:45 am]

BILLING CODE 4510-30-U